DEPARTMENT OF THE TREASURY

Notice of Charter Renewal for the Financial Research Advisory Committee

AGENCY: Office of Financial Research, Department of the Treasury.

ACTION: Notice of charter renewal.

SUMMARY: The charter for the Financial Research Advisory Committee has been renewed for a two-year period beginning January 26, 2022.

FOR FURTHER INFORMATION CONTACT: Melissa Avstreih, Designated Federal Officer, Office of Financial Research, Department of the Treasury, 1500 Pennsylvania Avenue NW, Washington, DC 20220, (202) 927-8032 (this is not a toll-free number), or OFR_FRAC@ofr.treasury.gov. Persons who have difficulty hearing or speaking may access this number via TTY by calling the toll-free Federal Relay Service at 800-877-8339.

SUPPLEMENTARY INFORMATION: Pursuant to the Federal Advisory Committee Act, (Pub. L. 92-463, 5 U.S.C. App. 2 § 1-16, as amended), the Treasury Department established a Financial Research Advisory Committee (Committee) to provide advice and recommendations to the Office of Financial Research (OFR) and to assist the OFR in carrying out its duties and authorities.

(I) Authorities of the OFR

The OFR was established under Title I of the Dodd-Frank Wall Street Reform and Consumer Protection Act (Pub. L. 111-203, July 21, 2010). The purpose of the OFR is to support the Financial Stability Oversight Council (Council) in fulfilling the purposes and duties of the Council and to support the Council's member agencies by:

—Collecting data on behalf of the Council, and providing such data to the Council and member agencies;

—Standardizing the types and formats of data reported and collected;

—Performing applied research and essential long-term research;

—Developing tools for risk measurement and monitoring;

—Performing other related services;

—Making the results of the activities of the OFR available to financial regulatory agencies; and

—Assisting such member agencies in determining the types and formats of data authorized by the Dodd-Frank Act to be collected by such member agencies.

(II) Scope of the Committee

The Committee was established to advise the OFR on issues related to the responsibilities of the office. It may provide its advice, recommendations, analysis, and information directly to the OFR and the OFR may share the Committee's advice and recommendations with the Secretary of the Treasury or other Treasury officials.

The OFR will share information with the Committee as the Director determines will be helpful in allowing the Committee to carry out its role. The Committee charter was renewed for a two-year term on January 26, 2022.

James Martin,
Deputy Director, Operations, Office of Financial Research.

[FR Doc. 2022-02424 Filed 2-4-22; 8:45 am]

BILLING CODE P